DEPARTMENT OF COMMERCE

International Trade Administration

Amended Trade Mission Date and Application Deadline to the Cyber Security Business Development Mission to India

AGENCY: International Trade Administration, Department of Commerce.

ACTION: Notice.

SUMMARY: The United States Department of Commerce, International Trade Administration (ITA), is organizing a Cyber Security Business Development Mission to India on May 22-26, 2023.

• Cyber Security Business Development Mission to India—originally scheduled for May 23-27, 2022, is postponed to May 22-26, 2023. The application deadline is now April 14, 2023.

Background

Cyber Security Business Development Mission to India

The International Trade Administration has determined that to allow for optimal execution of recruitment and event scheduling for the mission, the dates of the mission are postponed from May 23-27, 2022 to May 22-26, 2023. As a result of the shift of the event dates the application deadline is also revised to April 14, 2023. Applications may be accepted after that date if space remains and scheduling constraints permit. Interested U.S. companies and trade associations/organizations that have not already submitted an application are encouraged to do so. The U.S. Department of Commerce will review applications and make selection decisions on a rolling basis in accordance with the 85 FR 12259 (March 2, 2020). The applicants selected will be notified as soon as possible. The proposed schedule is updated as follows:

Proposed Timetable

Sunday, May 21, 2023

• Trade Mission Participants Arrive in New Delhi

Monday, May 22, 2023

• Welcome and Country Briefing

• One-on-One business matchmaking appointments

• Networking Lunch (No-Host)

• One-on-One business matchmaking appointments

• Networking Reception at Deputy Chief of Mission residence (To Be Confirmed (TBC))

Tuesday, May 23, 2023

• Breakfast roundtable with Indian industry groups and associations (TBC)

• Cyber Security event to share best practices and promote participants

• Networking Lunch (No-Host)

• Ministry and other Indian Government Briefings and Meetings

• Transportation from Hotel to Airport Included

• Travel to Mumbai

Wednesday, May 24, 2023

• Welcome Briefing, Mumbai and Maharashtra State

• One-on-One business matchmaking appointments

• Networking Lunch (No-Host)

• One-on-One business matchmaking appointments

• Networking Reception at Consul General residence (TBC)

Thursday, May 25, 2023

• Breakfast roundtable with Indian industry groups and associations (TBC)

• Cyber Security event to share best practices and promote participants

• Networking Lunch (No-Host)

• Indian Government Briefings and Meetings

• Travel to Airport (Not Included)

Friday, May 26, 2023

• SPINOFF STOPS—Bengaluru or Hyderabad

• One-on-One business matchmaking appointments

FOR FURTHER INFORMATION CONTACT: Pompeya Lambrecht, Senior International Trade Specialist, U.S. Commercial Service, Arlington, VA, (703) 235-0102, pompeya.lambrecht@trade.gov.

Gemal Brangman,
Director, ITA Events Management Task Force.

[FR Doc. 2023-01506 Filed 1-25-23; 8:45 am]

BILLING CODE 3510-DR-P